DEPARTMENT OF COMMERCE

Bureau of Industry and Security

Notice of Request for Public Comments on Section 232 National Security Investigation of Imports of Laminations for Stacked Cores for Incorporation into Transformers, Stacked Cores for Incorporation Into Transformers, Wound Cores for Incorporation Into Transformers, Electrical Transformers, and Transformer Regulators

AGENCY: Bureau of Industry and Security, Office of Technology Evaluation, U.S. Department of Commerce.

ACTION: Notice of request for public comments.

SUMMARY: On May 11, 2020, based on inquiries and requests from interested parties in the United States, including multiple Members of Congress, a Grain-Oriented Electrical Steel (GOES) manufacturer, and producers of Power and Distribution Transformers, the Secretary of Commerce (the “Secretary”) initiated an investigation to determine the effect of imports of Laminations for Stacked Cores for Incorporation into Transformers, Stacked Cores for Incorporation into Transformers, Wound Cores for Incorporation into Transformers, Electrical Transformers, and Transformer Regulators on the national security. This investigation has been initiated under section 232 of the Trade Expansion Act of 1962, as amended.

Interested parties are invited to submit written comments, data, analyses, or other information pertinent to the investigation to the Department of Commerce's (the “Department”) Bureau of Industry and Security by June 9, 2020. Rebuttal comments will be due by June 19, 2020. While the Department is interested in any information related to this investigation that the public can provide, this notice identifies particular issues of significance.

DATES: The due date for filing comments is June 9, 2020. The due date for rebuttal comments is June 19, 2020. Rebuttal comments may only address issues raised in comments filed on or before June 9, 2020.

ADDRESSES: Submissions: All written comments on the notice must be addressed to Section 232 Electrical Steel Investigation and filed through the Federal eRulemaking Portal: http://www.regulations.gov. To submit comments via http://www.regulations.gov, enter docket number BIS-2020-0015 on the home page and click “search.” The site will provide a search results page listing all documents associated with this docket. Find a reference to this notice and click on the link entitled “Comment Now!” (For further information on using http://www.regulations.gov, please consult the resources provided on the website by clicking on “How to Use This Site.”)

FOR FURTHER INFORMATION CONTACT: Industrial Studies Division, Bureau of Industry and Security, U.S. Department of Commerce (202) 482-4952, ESproducts232@bis.doc.gov. For more information about the section 232 program, including the regulations and the text of previous investigations, please see www.bis.doc.gov/232.

SUPPLEMENTARY INFORMATION:

Background

On May 11, 2020, based on inquiries and requests from interested parties in the United States, including multiple Members of Congress, a domestic GOES manufacturer, and producers of Power and Distribution Transformers, the Secretary initiated an investigation under section 232 of the Trade Expansion Act of 1962, as amended (19 U.S.C. 1862). The investigation has been undertaken to determine the effect on the national security of imports of Laminations for Stacked Cores for Incorporation into Transformers, Stacked Cores for Incorporation into Transformers, Wound Cores for Incorporation into Transformers, Electrical Transformers, and Transformer Regulators (hereinafter “Products”). If the Secretary finds that Products are being imported into the United States in such quantities or under such circumstances as to threaten to impair the national security, the Secretary shall so advise the President in his report on the findings of the investigation.

Written Comments

This investigation is being undertaken in accordance with part 705 of the National Security Industrial Base Regulations (15 CFR parts 700 to 709) (“NSIBR”). Interested parties are invited to submit written comments, data, analyses, or information pertinent to this investigation to the Department's Office of Technology Evaluation no later than June 9, 2020. The due date for rebuttal comments is June 19, 2020. Rebuttal comments may only address issues raised in comments filed on or before June 9, 2020.

The Department is particularly interested in comments and information directed to the criteria listed in § 705.4 of the NSIBR as they affect national security, including the following:

(i) Quantity of, or other circumstances related to, the importation of the Products;

(ii) Domestic production and productive capacity needed for the Products to meet projected national defense requirements;

(iii) Existing and anticipated availability of human resources, products, raw materials, production equipment, and facilities to produce the Products;

(iv) Growth requirements of Products' industries to meet national defense requirements and/or requirements for supplies and services necessary to assure such growth including investment, exploration, and development;

(v) The impact of foreign competition on the economic welfare of the Products' industries;

(vi) The displacement of any domestic production of the Products causing substantial unemployment, decrease in the revenues of government, loss of investment or specialized skills and productive capacity, or other serious effects;

(vii) National defense supporting uses of the Products including data on applicable contracts or sub-contracts, both past and current;

(viii) Country of manufacture for the Products;

(ix) Relevant factors that are causing or will cause a weakening of our national economy; and

(x) Any other relevant factors, including the use and importance of the Products in critical infrastructure sectors identified in Presidential Policy Directive 21 (Feb. 12, 2013) (for a listing of those sectors see https://www.dhs.gov/cisa/critical-infrastructure-sectors).

Requirements for Written Comments

The http://www.regulations.gov website allows users to provide comments by filling in a “Type Comment” field, or by attaching a document using an “Upload File” field. The Department prefers that comments be provided in an attached document. The Department prefers submissions in Microsoft Word (.doc) or Adobe Acrobat (.pdf). If the submission is in an application format other than those two, please indicate the name of the application in the “Type Comment” field. Please do not attach separate cover letters to electronic submissions; rather, include any information that might appear in a cover letter in the comments themselves. Similarly, to the extent possible please include any exhibits, annexes, or other attachments in the same file as part of the submission itself rather than in separate files. Comments will be placed in the docket and open to public inspection, except information determined to be confidential as outlined in § 705.6 of the NSIBR. Comments may be viewed on http://www.regulations.gov by entering docket number BIS-2020-0015 in the search field on the home page.

Material submitted by members of the public that is properly marked business confidential information and accepted as such by the Department will be exempted from public disclosure as provided for by § 705.6 of the NSIBR. Anyone submitting business confidential information should clearly identify the business confidential portion at the time of submission, file a statement justifying nondisclosure and referring to the specific legal authority claimed, and provide a non-confidential submission which can be placed in the public file on http://www.regulations.gov. Communications from agencies of the United States Government will not be made available for public inspection. For comments submitted electronically containing business confidential information, the file name of the business confidential version should begin with the characters “BC”. Any page containing business confidential information must be clearly marked “BUSINESS CONFIDENTIAL” on the top of that page. The non-confidential version must be clearly marked “PUBLIC”. The file name of the non-confidential version should begin with the character “P”. The “BC” and “P” should be followed by the name of the person or entity submitting the comments or rebuttal comments. All filers should name their files using the name of the person or entity submitting the comments. If a public hearing is held in support of this investigation, a separate Federal Register notice will be published providing the date and information about the hearing.

The Bureau of Industry and Security does not maintain a separate public inspection facility. Requesters should first view the Bureau's web page, which can be found at https://efoia.bis.doc.gov/ (see “Electronic FOIA” heading). If requesters cannot access the website, they may call 202-482-0795 for assistance. The records related to this assessment are made accessible in accordance with the regulations published in part 4 of title 15 of the Code of Federal Regulations (15 CFR 4.1 et seq.).

Matthew S. Borman,
Deputy Assistant Secretary for Export Administration.

[FR Doc. 2020-10715 Filed 5-18-20; 8:45 am]

BILLING CODE 3510-33-P